ENVIRONMENTAL PROTECTION AGENCY

[FRL-9729-6]

Environmental Financial Advisory Committee; Request for Nominations of Candidates to the Environmental Financial Advisory Board

AGENCY: Environmental Protection Agency (EPA).

ACTION: Notice.

SUMMARY: The United States Environmental Protection Agency (EPA) invites nominations of qualified candidates to be considered for appointments to fill vacancies on the Environmental Financial Advisory Board (the Board or EFAB). The Board seeks to maintain diverse representation across all workforce sectors and geographic locations. Nominees should demonstrate experience in any of the following areas: Environmental technology investments; commercial banking, local utility management and finance, green infrastructure financing, sustainable community partnerships; environmental insurance, and water and wastewater infrastructure and program financing. Nominees are encouraged who live and work in the southeastern, southwestern, western, and northwestern parts of the United States.

EPA values and welcomes diversity. In an effort to obtain a diverse pool of candidates, EPA encourages nominations of women and men of all racial and ethnic groups. In addition to this notice, other sources may be utilized in the solicitation of nominees. The deadline for receiving nominations is Monday, October 15, 2012. Appointments will be made by the Deputy Administrator of the Environmental Protection Agency and will be announced in March 2013. Nominee qualifications will be assessed under the mandates of the Federal Advisory Committee Act, which requires Committees to maintain diversity across a broad range of constituencies, sectors, and groups.

DATES: Nominations should be submitted in time to arrive no later than October 15, 2012.

Background Information: The Environmental Financial Advisory Board was chartered in 1989 under the Federal Advisory Committee Act to provide advice and recommendations to EPA on the following issues:

• Reducing the cost of financing environmental facilities and discouraging polluting behavior;

• Creating incentives to increase private investment in the provision of environmental services and removing or reducing constraints on private involvement imposed by current regulations;

• Developing new and innovative environmental financing approaches and supporting and encouraging the use of cost-effective existing approaches;

• Identifying approaches specifically targeted to small/disadvantaged community financing;

• Increasing the capacity of state and local governments to carry out their respective environmental programs under current Federal tax laws;

• Analyzing how new technologies can be brought to market expeditiously;

• Increasing the total investment in environmental protection of public, and private environmental resources to help ease the environmental financing challenge facing our nations.

The Board meets two times each calendar year (two days per meeting) at different locations within the continental United States. Board members typically contribute approximately 1-3 hours per month to the Board's work. The Board's membership services are voluntary and the Agency is unable to provide honoraria or compensation, according to FACA guidelines. However, Board members may receive travel and per diem allowances, where appropriate and in accordance with Federal Travel Regulations for invitational travelers.

Evaluation Criteria: The following criteria will be used to evaluate nominees:

Residence in the continental United States;

Professional knowledge of, and experience with, environmental financing activities;

Senior level-experience that fills a gap in Board representation, or brings a new and relevant dimension to its deliberations;

Demonstrated ability to work in a consensus-building process with a wide range of representatives from diverse constituencies; and

Willingness to serve a two-year term as an active-contributing member, with possible re-appointment to a second term.

Nominations for membership must include a resume describing the professional and educational qualifications of the nominee as well as expertise/experience. Contact details should include full name and title, business mailing address, telephone, fax, and email address. A supporting letter of endorsement is encouraged but not required.

Addresses/For Further Information Contact: Submit nomination materials by postal mail, electronic mail, or fax to: Pamela Scott, Membership Coordinator, Environmental Financial Advisory Board, EPA, Office of the Chief Financial Officer, 1200 Pennsylvania Avenue NW. (2731A), Washington, DC 20460; or email scott.pamela@epa.gov; phone 202-564-6368; or fax 202-565-2587.

Dated: September 11, 2012.
Timothy P. McProuty,
Acting Director, Center for Environmental Finance, Office of the Chief Financial Officer.

[FR Doc. 2012-23086 Filed 9-18-12; 8:45 am]

BILLING CODE 6560-50-P